DEPARTMENT OF THE TREASURY

Community Development Financial Institutions Fund

Funding Opportunity Title: Change to Notice of Guarantee Availability (NOGA) Inviting Qualified Issuer Applications and Guarantee Applications for the Community Development Financial Institutions (CDFI) Bond Guarantee Program

ACTION: Change of Guarantee Application deadline.

Catalog of Federal Domestic Assistance (CFDA) Number: 21.011.

Executive Summary: On November 6, 2018, the Community Development Financial Institutions Fund (CDFI Fund) published a Notice of Guarantee Availability (NOGA) under the CDFI Bond Guarantee Program in the Federal Register (83 FR 55582, November 6, 2018) announcing the availability of up to $500 million in Guarantee Authority, contingent upon Congressional authorization. The CDFI Fund is issuing this notice to amend the NOGA Guarantee Application deadline from 11:59 p.m. ET on February 26, 2019, to 11:59 p.m. ET on March 26, 2019. The deadline for Qualified Issuer Applications is amended from 11:59 p.m. ET on February 19, 2019, to March 19, 2019, and the CDFI Certification Applications must have been received by the CDFI Fund by 11:59 p.m. ET on December 3, 2018, in accordance with the NOGA published on November 6, 2018.

Capitalized terms used in this NOGA and not defined elsewhere are defined in the CDFI Bond Guarantee Program regulations (12 CFR 1808.102) and the CDFI Program Regulations (12 CFR 1805.104).

All other information and requirements set forth in the NOGA published on November 6, 2018, shall remain effective, as published.

I. Agency Contacts

A. General information on questions and CDFI Fund support. The CDFI Fund will respond to questions and provide support concerning this NOGA, the Qualified Issuer Application and the Guarantee Application between the hours of 9:00 a.m. and 5:00 p.m. ET, through March 11, 2019. Applications and other information regarding the CDFI Fund and its programs may be obtained from the CDFI Fund's website at http://www.cdfifund.gov. The CDFI Fund will post on its website responses to questions of general applicability regarding the CDFI Bond Guarantee Program.

B. The CDFI Fund's contact information is as follows:

Table 2—Contact Information
Type of question | Telephone number (not toll free) | Email addresses
CDFI Bond Guarantee Program | (202) 653-0421 Option 5 | bgp@cdfi.treas.gov.
CDFI Certification | (202) 653-0423 | ccme@cdfi.treas.gov.
Compliance Monitoring and Evaluation | (202) 653-0423 | ccme@cdfi.treas.gov.
Information Technology Support | (202) 653-0422 | AMIS@cdfi.treas.gov.

C. Communication with the CDFI Fund. The CDFI Fund will use the AMIS internet interface to communicate with applicants, Qualified Issuers, Program Administrators, Servicers, Certified CDFIs and Eligible CDFIs, using the contact information maintained in their respective AMIS accounts. Therefore, each such entity must maintain accurate contact information (including contact person and authorized representative, email addresses, fax numbers, phone numbers, and office addresses) in its respective AMIS account. For more information about AMIS, please see the AMIS Landing Page at https://amis.cdfifund.gov.

Authority: Pub. L. 111-240; 12 U.S.C. 4701, et seq.; 12 CFR part 1808; 12 CFR part 1805; 12 CFR part 1815.

Jodie L. Harris,
Director, Community Development Financial Institutions Fund.

[FR Doc. 2019-03204 Filed 2-22-19; 8:45 am]

BILLING CODE 4810-70-P